DEPARTMENT OF THE INTERIOR

National Park Service

[N6735; NPS-WASO-NAGPRA-NPS0041495; PPWOCRADN0-PCU00RP14.R50000]

Notice of Intended Repatriation: Augustana University, Sioux Falls, SD

AGENCY: National Park Service, Interior.

ACTION: Notice.

SUMMARY: In accordance with the Native American Graves Protection and Repatriation Act (NAGPRA), Augustana University intends to repatriate certain cultural items that meet the definition of unassociated funerary objects, sacred objects, and/or objects of cultural patrimony and that have a cultural affiliation with the Indian Tribes or Native Hawaiian organizations in this notice.

DATES: Repatriation of the cultural items in this notice may occur on or after January 20, 2026.

ADDRESSES: Send additional, written requests for repatriation of the cultural items in this notice to Gina Palefsky, Archaeology Laboratory, Augustana University, 2001 S Summit Avenue, Sioux Falls, SD 57105, email gina.palefsky@augie.edu.

SUPPLEMENTARY INFORMATION: This notice is published as part of the National Park Service's administrative responsibilities under NAGPRA. The determinations in this notice are the sole responsibility of Augustana University, and additional information on the determinations in this notice, including the results of consultation, can be found in the summary or related records. The National Park Service is not responsible for the determinations in this notice.

Abstract of Information Available

A total of 10 cultural items have been requested for repatriation: three sacred objects and seven objects of cultural patrimony. The three sacred objects are a pipe bowl, pipestem, and rattle. The pipe bowl is t-shaped, made of catlinite (pipestone), and has six “x” shapes faintly etched on one side of the pipe. The pipestem is wide, flat, and wooden, with green painted sections and remnants of purple quillwork and red and blue ribbon suspensions. Documents attribute the pipestem to the Sioux, circa 1900. The rattle is made of leather and has a wooden handle; documents estimate that it was made circa 1880.

All three sacred objects described above were donated to Augustana University's Center for Western Studies in the winter of 2012-2013 by Abbot Denis Quinkert and Director Colleen Cordell of the American Indian Culture Research Center at Blue Cloud Abbey, an American Benedictine monastery near Marvin, Grant County, South Dakota. Through consultation, these sacred objects were determined to be culturally affiliated with the Flandreau Santee Sioux Tribe of South Dakota. Augustana University does not have information indicating that these sacred items were treated with or exposed to potentially hazardous substances.

The seven objects of cultural patrimony are three hammer heads, a pair of gloves, a spoon, a bowl, and a quirt. The three hammer heads are made of catlinite (pipestone). None of the hammer heads have handles; one has leather fringe with a red, white, and purple quill-wrapped slat around the hammer head. The gloves are made of soft hide with partially beaded gauntlets that have short leather fringe on the edges. The beadwork is of a stylized floral design in red, light blue, dark blue, and green. Documents attribute these gloves to the Santee Sioux, circa 1900. The spoon is made of bison horn and has a bird effigy handle. Documents attribute the spoon to the Eastern Sioux, circa 1860-1870. The bowl is a slightly elongated wooden bowl with carved handles. Documents attribute the bowl to the Eastern Sioux, with an estimated date of pre-1850. The quirt is a sawtooth wood quirt with brass tacks on both sides; a long strip of leather and a feather fragment are attached, along with a floral beadwork wrist strap. Documents attribute this quirt to the Sioux, circa 1880. All seven objects of cultural patrimony described above were donated to Augustana University's Center for Western Studies in the winter of 2012-2013 by Abbot Denis Quinkert and Director Colleen Cordell of the American Indian Culture Research Center at Blue Cloud Abbey, an American Benedictine monastery near Marvin, Grant County, South Dakota. Through consultation, these objects of cultural patrimony were determined to be culturally affiliated with the Flandreau Santee Sioux Tribe of South Dakota. Augustana University does not have information indicating that these cultural items were treated with or exposed to potentially hazardous substances.

Determinations

Augustana University has determined that:

• The three sacred objects described in this notice are specific ceremonial objects needed by a traditional Native American religious leader for present-day adherents to practice traditional Native American religion, according to the Native American traditional knowledge of a lineal descendant, Indian Tribe, or Native Hawaiian organization.

• The seven objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Flandreau Santee Sioux Tribe of South Dakota.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, Augustana University must determine the most appropriate requestor prior to repatriation. Requests for joint repatriation of the cultural items are considered a single request and not competing requests. Augustana University is responsible for sending a copy of this notice to the Indian Tribes and Native Hawaiian organizations identified in this notice and to any other consulting parties.

Authority: Native American Graves Protection and Repatriation Act, 25 U.S.C. 3004 and the implementing regulations, 43 CFR 10.9.

Dated: December 2, 2025.
Melanie O'Brien,
Manager, National NAGPRA Program.

[FR Doc. 2025-23188 Filed 12-17-25; 8:45 am]

BILLING CODE 4312-52-P